FEDERAL ELECTION COMMISSION

Sunshine Act Meetings

AGENCY: Federal Election Commission.

DATE & TIME: Thursday, February 12, 2015 At 10:00 a.m.

PLACE: 999 E Street NW., Washington, DC (Ninth Floor)

STATUS: This Meeting Will Be Open To The Public.

ITEMS TO BE DISCUSSED:

Correction and Approval of Minutes for January 15, 2015

Draft Advisory Opinion 2014-20: Make Your Laws PAC, Inc.

Draft Advisory Opinion 2014-21: Cambia Health Solutions, Inc.

Audit Division Recommendation Memorandum on the Republican Party of Orange County (Federal) (RPOC) (A11-23)

Audit Division Recommendation Memorandum on the Democratic Party of Wisconsin (DPW) (A12-04)

Proposed Final Audit Report on the Joe Walsh for Congress Committee, Inc. (A13-01)

Management and Administrative Matters

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shawn Woodhead Werth,
Secretary and Clerk of the Commission.

[FR Doc. 2015-02447 Filed 2-3-15; 4:15 pm]

BILLING CODE 6715-01-P